DEPARTMENT OF VETERANS AFFAIRS

[OMB Control No. 2900-NEW]

Agency Information Collection (Hand and Finger Conditions Disability Benefits Questionnaire) Under OMB Review

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, will submit the collection of information abstracted below to the Office of Management and Budget (OMB) for review and comment. The PRA submission describes the nature of the information collection and its expected cost and burden; it includes the actual data collection instrument.

DATES: Comments must be submitted on or before December 16, 2013.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-NEW (Hand and Finger Conditions Disability Benefits Questionnaire)” in any correspondence.

FOR FURTHER INFORMATION CONTACT: Crystal Rennie, Enterprise Records Service (005R1B), Department of Veterans Affairs, 810 Vermont Avenue NW., Washington, DC 20420, (202) 632-7492 or email crystal.rennie@va.gov. Please refer to “OMB Control No. 2900-NEW (Hand and Finger Conditions Disability Benefits Questionnaire)”.

SUPPLEMENTARY INFORMATION:

Title: Hand and Finger Conditions Disability Benefits Questionnaire, VA Form 21-0960M-7.

OMB Control Number: 2900-NEW (Hand and Finger Conditions Disability Benefits Questionnaire).

Type of Review: New data collection.

Abstract: VA Form 21-0960M-7 will be used for disability compensation or pension claims which require an examination and/or receiving private medical evident that may potentially be sufficient for rating purposes.

Affected Public: Individuals or Households.

Estimated Annual Burden: 15,000.

Estimated Average Burden per Respondent: 30 minutes.

Frequency of Response: On occasion.

Estimated Number of Respondents: 30,000.

Dated: November 12, 2013.
By direction of the Secretary.
Crystal Rennie,
VA Clearance Officer, U.S. Department of Veterans Affairs.

[FR Doc. 2013-27407 Filed 11-14-13; 8:45 am]

BILLING CODE 8320-01-P